DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, e-mail paperwork@hrsa.gov or call the HRSA Reports Clearance Office on (301) 443-1129.

The following request has been submitted to the Office of Management and Budget for review under the Paperwork Reduction Act of 1995:

Proposed Project: Supplemental Information Request for the Submission of the Updated State Plan for the Home Visiting Program (OMB No. 0915-0336)—[Extension]

On March 23, 2010, the President signed into law the Patient Protection and Affordable Care Act of 2010 (Pub. L. 111-148), historic and transformative legislation designed to enhance disease prevention, strengthen the health care workforce, and make quality, affordable health care available to all Americans. Through a provision authorizing the creation of the Maternal, Infant, and Early Childhood Home Visiting Program, (http://frwebgate.access.gpo.gov/cgi-bin/getdoc.cgi?dbname=111_cong_bills&docid=f:h3590enr.txt.pdf, pages 216-225), the Act responds to the diverse needs of children and families in communities at risk and provides an unprecedented opportunity for collaboration and partnership at the federal, state, and community levels to improve health and development outcomes for at-risk children through evidence-based home visiting programs.

The Maternal, Infant, and Early Childhood Home Visiting (MIECHV) Program is designed: (1) To strengthen and improve the programs and activities carried out under Title V; (2) to improve coordination of services for at-risk communities; and (3) to identify and provide comprehensive services to improve outcomes for families who reside in at-risk communities.

To achieve the legislative requirements of the MIECHV program, the following application steps were required for release of grant funding:

The first step was submission of an application for funding: The HRSA Funding Opportunity Announcement (FOA), HRSA-10-275, was issued on June 10, 2010, and state applications were due to HRSA on July 9, 2010. These applications were to include plans for completing the required statewide needs assessment to identify at-risk communities, submission of which was also a condition for receiving FY 2011 Title V Block Grant allotments (the completed needs assessments were due in September 2010) and initial State plans for developing the program in order to meet the criteria identified in the legislation (Section 511(b)(3)(B)). The second step was submission of a statewide needs assessment. On September 20, 2010, all 50 states, the District of Columbia, and five U.S. territories submitted needs assessments, which were approved by HRSA, and all 56 grantees have therefore received FY 2011 Title V Block Grant funds. The third step, as a condition of receiving the remaining grant funding, was submission of an Updated State Plan for a State Home Visiting Program.

The information requested for the Updated State Plan is intended to help states in achieving the MIECHV Program requirements by viewing their proposed State Home Visiting Program as a service strategy aimed at developing a comprehensive, high-quality early childhood system that promotes maternal, infant, and early childhood health, safety and development, and strong parent-child relationships in the targeted community(ies) at risk. Ultimately, the information provided will help states develop a comprehensive plan that addresses community risk factors, builds on strengths identified in the targeted community(ies), and responds to the specific characteristics and needs of families in each of these communities.

The annual estimate of burden is as follows:

Instrument | Number of respondents | Responses per respondent | Total responses | Hours per response | Total burden hours
Section 1: Identification of the State's Targeted At-Risk Community(ies) | 56 | 1 | 56 | 30 | 1,680
Section 2: State Home Visiting Program Goals and Objectives | 56 | 1 | 56 | 30 | 1,680
Section 3: Selection of Proposed Home Visiting Model(s) and Explanation of How the Model(s) Meet the Needs of Targeted Community(ies) | 56 | 1 | 56 | 30 | 1,680
Section 4: Implementation Plan for Proposed State Home Visiting Program | 56 | 1 | 56 | 60 | 3,360
Section 5: Plan for Meeting Legislatively-Mandated Benchmarks | 56 | 1 | 56 | 60 | 3,360
Section 6: Plan for Administration of State Home Visiting Program | 56 | 1 | 56 | 40 | 2,240
Section 7: Plan for Continuous Quality Improvement | 56 | 1 | 56 | 20 | 1,120
Section 8: Technical Assistance Needs | 56 | 1 | 56 | 1 | 56
Total | 56 |  |  |  | 15,176

Written comments and recommendations concerning the proposed information collection should be sent within 30 days of this notice to the desk officer for HRSA, either by e-mail to OIRA_submission@omb.eop.gov or by fax to 202-395-6974. Please direct all correspondence to the “attention of the desk officer for HRSA.”

Dated: July 19, 2011.
Reva Harris,
Acting Director, Division of Policy and Information Coordination.

[FR Doc. 2011-18596 Filed 7-21-11; 8:45 am]

BILLING CODE 4165-15-P